DEPARTMENT OF THE INTERIOR

National Park Service

[NPS-WASO-NAGPRA-NPS0028126; PPWOCRADN0-PCU00RP14.R50000]

Notice of Inventory Completion: Department of Folk Studies and Anthropology at Western Kentucky University, Bowling Green, KY

AGENCY: National Park Service, Interior.

ACTION: Notice.

SUMMARY: The Department of Folk Studies and Anthropology at Western Kentucky University has completed an inventory of human remains and associated funerary objects, in consultation with the appropriate Indian Tribes or Native Hawaiian organizations, and has determined that there is no cultural affiliation between the human remains and associated funerary objects and any present-day Indian Tribes or Native Hawaiian organizations. Representatives of any Indian Tribe or Native Hawaiian organization not identified in this notice that wish to request transfer of control of these human remains and associated funerary objects should submit a written request to the Department of Folk Studies and Anthropology at Western Kentucky University. If no additional requestors come forward, transfer of control of the human remains and associated funerary objects to the Indian Tribes or Native Hawaiian organizations stated in this notice may proceed.

DATES: Representatives of any Indian Tribe or Native Hawaiian organization not identified in this notice that wish to request transfer of control of these human remains and associated funerary objects should submit a written request with information in support of the request to the Department of Folk Studies and Anthropology at Western Kentucky University at the address in this notice by July 29, 2019.

ADDRESSES: Dr. Darlene Applegate, Department of Folk Studies and Anthropology, Western Kentucky University, 1906 College Heights Boulevard #61029, Bowling Green, KY 42101-1029, telephone (270) 745-5898, email darlene.applegate@wku.edu.

SUPPLEMENTARY INFORMATION: Notice is here given in accordance with the Native American Graves Protection and Repatriation Act (NAGPRA), 25 U.S.C. 3003, of the completion of an inventory of human remains and associated funerary objects under the control of the Department of Folk Studies and Anthropology at Western Kentucky University. The human remains and associated funerary objects were removed from Fulton County, KY.

This notice is published as part of the National Park Service's administrative responsibilities under NAGPRA, 25 U.S.C. 3003(d)(3) and 43 CFR 10.11(d). The determinations in this notice are the sole responsibility of the museum, institution, or Federal agency that has control of the Native American human remains and associated funerary objects. The National Park Service is not responsible for the determinations in this notice.

Consultation

A detailed assessment of the human remains was made by the Western Kentucky University, Department of Folk Studies and Anthropology professional staff in consultation with representatives of The Chickasaw Nation and the United Keetoowah Band of Cherokee Indians in Oklahoma. The Cherokee Nation and the Eastern Band of Cherokee Indians were invited to consult, but deferred to the consulted Indian Tribes. In addition, the Muscogee (Creek) Nation was invited to consult, but did not participate.

History and Description of the Remains

During June-July 1978, human remains representing, at minimum, one individual were removed from Site 15Fu305A in Fulton County, KY. The human remains were recovered as part of an archeological survey conducted by Dr. Jack Schock of Western Kentucky University for the Memphis District Corps of Engineers in advance of a proposed channelization project above Lake 9, at Sassafras Ridge. Site 15Fu305A is located along the crest of a ridge on property then owned by Mr. James White. An area measuring about 50 ft (15 m) in diameter in an agricultural field on a ridge spur at the western edge of the multicomponent site yielded human bones and associated funerary objects from surface contexts. All human bones and artifacts visible on the surface were collected, and have been at Western Kentucky University since they were collected. The human remains consist of eight fragments of cranial and appendicular skeletal elements belonging to an adult male of indeterminate sex. No known individuals were identified. The 17 associated funerary objects are five body sherds of Baytown Plain, eight body sherds of Neeley's Ferry Plain, one grog-tempered body sherd of unknown type, and three body sherds of indeterminate temper and unknown type. The researchers interpreted the aboriginal component at Site 15Fu305A as a Mississippian period mortuary site containing one-two internments accompanied by at least two burial vessels. The human remains and pottery sherds subsequently were brought to the surface by plowing.

In July 1978, human remains representing, at minimum, one individual were removed from the Sassafras Ridge site (15Fu3) in Fulton County, KY. The human remains were recovered as part of an undergraduate archaeological field methods course taught by Dr. Jack Schock of Western Kentucky University. The Sassafras Ridge site is located along the south edge of a swampy lowland called Fish Pond, about 3.5 km northeast of the small community of Sassafras Ridge. Listed in the National Register of Historic Places under Criterion D in 1984, the Sassafras Ridge site is one of several Mississippian mound centers in Fulton and bordering counties of far western Kentucky. The human remains were collected from the surface on top of the earthen mound at the Sassafras Ridge site and consist of one partial neurocranial bone belonging to an adult of indeterminate sex. The human bone has been at Western Kentucky University since it was collected. No associated funerary objects are present.

Determinations Made by the Department of Folk Studies and Anthropology at Western Kentucky University

Officials of the Department of Folk Studies and Anthropology at Western Kentucky University have determined that:

• Pursuant to 25 U.S.C. 3001(9), the human remains described in this notice are Native American based on context of discovery and/or the associated funerary objects.

• Pursuant to 25 U.S.C. 3001(9), the human remains described in this notice represent the physical remains of two individuals of Native American ancestry.

• Pursuant to 25 U.S.C. 3001(3)(A), the 17 objects described in this notice are reasonably believed to have been placed with or near individual human remains at the time of death or later as part of the death rite or ceremony.

• Pursuant to 25 U.S.C. 3001(2), a relationship of shared group identity cannot be reasonably traced between the Native American human remains and associated funerary objects and any present-day Indian Tribe.

• According to final judgments of the Indian Claims Commission or the Court of Federal Claims, the land from which the Native American human remains and associated funerary objects were removed is the aboriginal land of the Cherokee Nation; Eastern Band of Cherokee Indians; The Chickasaw Nation; The Muscogee (Creek) Nation; and the United Keetoowah Band of Cherokee Indians in Oklahoma (hereafter referred to as “The Tribes”).

• Pursuant to 43 CFR 10.11(c)(1), the disposition of the human remains and associated funerary objects may be to The Tribes.

Additional Requestors and Disposition

Representatives of any Indian Tribe or Native Hawaiian organization not identified in this notice that wish to request transfer of control of these human remains and associated funerary objects should submit a written request with information in support of the request to Dr. Darlene Applegate, Department of Folk Studies and Anthropology, Western Kentucky University, 1906 College Heights Boulevard #61029, Bowling Green, KY 42101-1029, telephone (270) 745-5898, email darlene.applegate@wku.edu, by July 29, 2019. After that date, if no additional requestors have come forward, transfer of control of the human remains and associated funerary objects to The Tribes may proceed.

The Department of Folk Studies and Anthropology at Western Kentucky University is responsible for notifying The Tribes that this notice has been published.

Dated: June 5, 2019.
Melanie O'Brien,
Manager, National NAGPRA Program.

[FR Doc. 2019-13839 Filed 6-27-19; 8:45 am]

BILLING CODE 4312-52-P